FEDERAL COMMUNICATIONS COMMISSION

[DA 02-3371]

Wireless Telecommunications Bureau Seeks To Verify ITFS, MDS, and MMDS License Status and Pending Applications; Requests for Extension of Response Date Filed by Troutman Sanders LLP and the Wireless Communications Association International/The National ITFS Association

AGENCY: Federal Communications Commission.

ACTION: Notice.

SUMMARY: In this document, the Federal Communications Commission (FCC) extends the time until February 3, 2003 for all Instructional Television Fixed Service, Multipoint Distribution Service, and Multichannel Multipoint Distribution Service licensees to respond to the October 18, 2002 Public Notice requiring all Instructional Television Fixed Service (ITFS), Multipoint Distribution Service (MDS), and Multichannel Multipoint Distribution Service (MMDS) (collectively, the “Services”) licensees and applicants to verify licensing information and associated technical data, and submit required corrections.

FOR FURTHER INFORMATION CONTACT: Legal Matters: contact John J. Schauble, Chief, Policy and Rules Branch, Public Safety and Private Wireless Division, at (202) 418-0680.

For all questions regarding data corrections, and how to file those corrections, contact the Licensing Support Hotline at 1-888-225-5322 and select option 2.

SUPPLEMENTARY INFORMATION: This is a summary of the Commission's Order, DA 02-3371, released on December 5, 2002. The full text of this document is available for inspection and copying during normal business hours in the Federal Communications Commission Reference Center, 445 12th Street, SW., Washington, DC 20554. The complete text may be purchased from the Federal Communications Commission's copy contractor, Qualex International, 445 12th Street, SW., Room CY-B402, Washington, DC 20554. The full text may also be downloaded at: http://www.fcc.gov. Alternative formats are available to persons with disabilities by contacting Brian Millin at (202) 418-7426 or TTY (202) 418-7365 or at bmillin@fcc.gov.

1. On October 18, 2002, 67 FR 69010, November 14, 2002, the Wireless Telecommunications Bureau (WTB or Bureau) required all Instructional Television Fixed Service (ITFS), Multipoint Distribution Service (MDS), and Multichannel Multipoint Distribution Service (MMDS) (collectively, the “Services”) licensees and applicants in the Services to review licensing information and associated technical data. Specifically, licensees and applicants in the Services were required to verify the available information concerning their licenses and applications, make any necessary corrections concerning that data, and, under certain circumstances, submit corrections or responses to that data by December 17, 2002.

2. On November 25, 2002, the law firm of Troutman Sanders LLP requested a sixty-day extension of time, on behalf of several wireless cable clients, to comply with the BLS License Inventory Public Notice. On November 27, 2002, the Wireless Communications Association International and the National ITFS Association (WCA/NIA) jointly filed a similar request. For the reasons stated below, the FCC grants the requests in part and extends the time to respond to the BLS License Inventory Public Notice until February 3, 2003.

3. In their requests, Troutman Sanders and WCA/NIA argue that the process of reviewing the FCC's licensing records regarding the Services and preparing corrections is taking far longer than the Bureau anticipated because the vast majority of records require corrections or additional information. WCA/NIA assert that there are a limited number of people with the necessary experience with the MDS and ITFS licensing processes to evaluate the FCC's licensing records, determine whether corrections are needed, and prepare the necessary changes. WCA/NIA also represent that many ITFS licensees will be closed from the middle of December through the middle of January because of the holiday season.

4. Although the FCC does not routinely grant extensions of time, the importance of ensuring that the FCC's licensing records are accurate, and the challenges that licensees and applicants in the Services are facing, indicate that an extension of the December 17, 2002 deadline is appropriate. The FCC does not believe, however, that a sixty-day extension is warranted. In this connection, the FCC notes that electronic application filing has been suspended in the Services. The FCC is concerned that delays in the verification of licensing data and submission of corrections could unduly hinder the Bureau's efforts towards developing accurate licensing records and resuming electronic filing in the Services in an expeditious and efficient manner. Based upon the record before us, the FCC believes the current extension of time would be sufficient to allow licensees and applicants to respond to the BLS License Inventory Public Notice and provide any needed corrections. The February 3, 2003 date is beyond the mid-December to mid-January timeframe in which WCA/NIA identified that many ITFS licensees are closed for business. As a result of this extension, licensees and applicants in the Services will have had over 100 days to review the FCC's licensing records and prepare any necessary corrections and responses.

I. Ordering Clauses

5. Pursuant to section 4(i) of the Communications Act of 1934, as amended, 47 U.S.C. 154(i), and § 1.46 of the FCC's rules, 47 CFR 1.46, that the requests filed by Troutman Sanders LLP on November 24, 2002 and by the Wireless Communications Association International and the National ITFS Association on November 27, 2002 are granted to the extent stated herein and are otherwise denied in all other respects.

6. Pursuant to section 4(i) of the Communications Act of 1934, as amended, 47 U.S.C. 154(i), and § 1.46 of the FCC's rules, 47 CFR 1.46, and that the time for licensees and applicants to respond to the BLS License Inventory Public Notice is extended until February 3, 2003.

7. This action is taken under delegated authority pursuant to §§ 0.131 and 0.331 of the FCC's rules, 47 CFR 0.131, 0.331.

Federal Communications Commission.
Marlene H. Dortch,
Secretary.

[FR Doc. 03-811 Filed 1-14-03; 8:45 am]

BILLING CODE 6712-01-P